DEPARTMENT OF HEALTH AND HUMAN SERVICES

Centers for Disease Control and Prevention

Meeting of the Mine Safety and Health Research Advisory Committee

AGENCY: Centers for Disease Control and Prevention (CDC), Department of Health and Human Services (HHS).

ACTION: Notice of meeting.

SUMMARY: In accordance with the Federal Advisory Committee Act, the Centers for Disease Control and Prevention (CDC) announces the following meeting of the Mine Safety and Health Research Advisory Committee (MSHRAC). This is a hybrid meeting, accessible both in person and virtually. It is open to the public and limited only by the space available and the number of web conference lines available. Time will be available for public comment.

DATES: The meeting will be held on November 7, 2024, from 8:30 a.m. to 4:10 p.m., EST.

ADDRESSES: University of Kentucky, Mining and Minerals Resources Building, Room 102, 310 Columbia Avenue, Lexington, Kentucky 40508. The conference room accommodates approximately 100 people.

If you wish to attend the meeting either in person or virtually, please contact Ms. Berni Metzger by email at Metzger@cdc.gov or by phone at (412) 386-4541 at least 5 business days in advance of the meeting. If you are attending virtually, she will provide you with the Zoom web conference access information (500 web conference lines are available).

FOR FURTHER INFORMATION CONTACT: Steven Mischler, Ph.D., Designated Federal Officer, Mine Safety and Health Research Advisory Committee, National Institute for Occupational Safety and Health, Centers for Disease Control and Prevention, 626 Cochrans Mill Road, Pittsburgh, Pennsylvania 15236. Telephone: (412) 386-5688; Email: SMischler@cdc.gov.

SUPPLEMENTARY INFORMATION:

Purpose: The Mine Safety and Health Research Advisory Committee (MSHRAC) is charged with providing advice to the Secretary, Department of Health and Human Services; the Director, Centers for Disease Control and Prevention; and the Director, National Institute for Occupational Safety and Health (NIOSH), on priorities in mine safety and health research, including grants and contracts for such research, 30 U.S.C. 812(b)(2).

Matters to be Considered: The agenda will include discussions on NIOSH mining safety and health research organizational structure, capabilities, projects, and outcomes; discussions on intramural and extramural silica research; and a verbal report from MSHRAC's Mace Underground Mine Safety and Health Research Laboratory Development Workgroup. The meeting will also include an update from the NIOSH Associate Deputy Director, Mine Safety and Research. Agenda items are subject to change as priorities dictate.

Public Participation

Written Public Comment: The public may submit written comments or questions in advance of the meeting, to the Designated Federal Officer (see FOR FURTHER INFORMATION CONTACT above). Written comments received in advance of the meeting will be included in the official record of the meeting, and questions will be answered during the oral comment period open to public participation.

Oral Public Comment: The meeting will include time for members of the public to make an oral comment. The public comment session will be held on November 7, 2024, at 3:30 p.m., EST, or the conclusion of the planned presentations, whichever comes first. Members of the public will be allocated 5 to 10 minutes each for presentations or comments, as a function of the number of commenters.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-20253 Filed 9-6-24; 8:45 am]

BILLING CODE 4163-18-P